DEPARTMENT OF ENERGY

Federal Energy Regulatory Commission

Combined Notice of Filings #1

December 19, 2006.

Take notice that the Commission received the following electric corporate filings:

Docket Numbers: EC07-35-000.

Applicants: Entergy Nuclear FitzPatrick, LLC; Entergy Nuclear Power Marketing, LLC.

Description: Entergy Nuclear Fitzpatrick, LLC and Entergy Nuclear Power Marketing, LLC submits an application for authorization to transfer Power Sales Agreement.

Filed Date: 12/12/2006.

Accession Number: 20061218-0137.

Comment Date: 5 p.m. Eastern Time on Tuesday, January 2, 2007.

Take notice that the Commission received the following electric rate filings

Docket Numbers: ER00-3251-013; ER99-754-015; ER98-1734-013; ER01-1919-010; ER01-1147-004; ER01-513-020; ER99-2404-010

Applicants: Exelon Generating Company, LLC; AmerGen Energy Company, LLC; Commonwealth Edison Company; Exelon Energy Company, LLC; PECO Energy Company; Exelon West Medway, LLC; Exelon Wyman, LLC; Exelon New Boston, LLC; Exelon Framingham, LLC; Exelon New England Power Marketing, L.P.

Description: Exelon Generation Company, LLC et submits a notice of non-material change in status.

Filed Date: 12/15/2006.

Accession Number: 20061218-0088.

Comment Date: 5 p.m. Eastern Time on Friday, January 5, 2007.

Docket Numbers: ER01-205-016; ER98-2640-014; ER98-4590-012; ER99-1610-020; EL05-115-000.

Applicants: Xcel Energy Services Inc.; Northern States Power Company and Northern States Power Company (Wisconsin); Public Service Company of Colorado; Southwestern Public Service Company.

Description: Xcel Energy Services, Inc et al submit a compliance filing in order to incorporate certain revisions into their market-based rate tariffs required by FERC's 11/9/06 Order.

Filed Date: 12/11/2006.

Accession Number: 20061218-0129.

Comment Date: 5 p.m. Eastern Time on Tuesday, January 2, 2007.

Docket Numbers: ER01-1385-015.

Applicants: Consolidated Edison Company of New York.

Description: Ninth Quarterly Report by NYISO regarding its efforts to efficiently utilize combined cycle units in the NYISO markets, under ER04-230, et al.

Filed Date: 12/15/2006.

Accession Number: 20061215-5019.

Comment Date: 5 p.m. Eastern Time on Friday, January 5, 2007.

Docket Numbers: ER01-1403-005; ER01-2968-006; ER01-845-005; ER05-1122-003; ER04-366-004; ER04-372-006.

Applicants: FirstEnergy Operating Companies; FirsEnergy Solutions Corp.; FirstEnergy Generation Corporation; FirstEnergy Nuclear Generation Corporation; Jersey Central Power & Light Company; Metropolitan Edison Company.

Description: FirstEnergy Operating Companies et al., submit a non-material change in status of generation capacity.

Filed Date: 12/12/2006.

Accession Number: 20061218-0126.

Comment Date: 5 p.m. Eastern Time on Tuesday, January 2, 2007.

Docket Numbers: ER03-821-003.

Applicants: One Nation Energy Solutions, LLC.

Description: One Nation Energy Solutions, LLC submits a First Revised Original Sheet 1 to its FERC Electric Tariff, Rate Schedule 1st Revised.

Filed Date: 12/15/2006.

Accession Number: 20061218-0086.

Comment Date: 5 p.m. Eastern Time on Friday, January 5, 2007.

Docket Numbers: ER06-451-015.

Applicants: Southwest Power Pool, Inc.

Description: Southwest Power Pool, Inc submits revisions to its Open Access Transmission Tariff, pursuant to the Commission's 11/17/06 order.

Filed Date: 12/15/2006.

Accession Number: 20061218-0085.

Comment Date: 5 p.m. Eastern Time on Friday, January 5, 2007.

Docket Numbers: ER06-1094-002.

Applicants: Midwest Independent Transmission System Operator, Inc.

Description: Midwest Independent Transmission System Op, Inc. submits an additional Information and Partial Waiver Withdrawal request.

Filed Date: 12/13/2006.

Accession Number: 20061213-5054.

Comment Date: 5 p.m. Eastern Time on Tuesday, December 26, 2007.

Docket Numbers: ER06-1545-001.

Applicants: Midwest Independent Transmission System Operator, Inc.

Description: Midwest Independent Transmission System Operator Inc submits a compliance filing to confirm that the current version of the North American Electric Reliability Council Transmission Loading Relief are incorporated in Attachment Q, pursuant to the Commission's 11/30/06 order.

Filed Date: 12/13/2006.

Accession Number: 20061218-0138.

Comment Date: 5 p.m. Eastern Time on Wednesday, January 3, 2007.

Docket Numbers: ER07-64-001.

Applicants: ALLETE, Inc.

Description: ALLETE, Inc submits an amendment to its 10/23/06 filing to establish a distribution wheeling rate for Central MN Ethanol Co-op interconnection to MP's distribution Facilities.

Filed Date: 12/12/2006.

Accession Number: 20061218-0127.

Comment Date: 5 p.m. Eastern Time on Tuesday, January 2, 2007.

Docket Numbers: ER07-109-002.

Applicants: BTEC Southaven LLC.

Description: BTEC Southaven LLC submits its Second Substitute Original Sheet 2 to FERC Electric Tariff, Original Volume 1.

Filed Date: 12/15/2006.

Accession Number: 20061218-0149.

Comment Date: 5 p.m. Eastern Time on Friday, January 5, 2007.

Docket Numbers: ER07-110-002.

Applicants: BTEC New Albany LLC.

Description: BTEC New Albany LLC submits its Second Substitute Original Sheet 1 et al to FERC Electric Tariff, Original Volume 1.

Filed Date: 12/15/2006.

Accession Number: 20061218-0150.

Comment Date: 5 p.m. Eastern Time on Friday, January 5, 2007.

Docket Numbers: ER07-300-001.

Applicants: Connecticut Central Energy, LLC.

Description: Connecticut Central Energy, LLC submits Section VII to the petition of initial rate schedule to correct the company's name.

Filed Date: 12/15/2006.

Accession Number: 20061218-0089.

Comment Date: 5 p.m. Eastern Time on Friday, January 5, 2007.

Docket Numbers: ER07-323-000.

Applicants: Dynegy Power Marketing Inc.; Dynegy Midwest Generation, Inc.

Description: Dynegy Power Marketing Inc. et al request waiver of certain provisions of respective market-based tariffs so DYPM can make market-based rate sales, et al.

Filed Date: 12/14/2006.

Accession Number: 20061218-0142.

Comment Date: 5 p.m. Eastern Time on Thursday, January 4, 2007.

Docket Numbers: ER07-324-000.

Applicants: Wisconsin Electric Power Company; PJM Interconnection, L.L.C.

Description: Wisconsin Electric Power Co and PJM Interconnection jointly submits a clean rate schedule sheets of the Balancing Authority Operations Coordination Agreement designated as Rate FERC 117 et al.

Filed Date: 12/15/2006.

Accession Number: 20061218-0128.

Comment Date: 5 p.m. Eastern Time on Friday, January 5, 2007.

Docket Numbers: ER07-325-000.

Applicants: Allegheny Energy Supply Gleason Generating Facility, LLC.

Description: Allegheny Energy Supply Gleason Generating Facility, LLC submits a notice of cancellation of its market-based rate tariff.

Filed Date: 12/15/2006.

Accession Number: 20061218-0130.

Comment Date: 5 p.m. Eastern Time on Friday, January 5, 2007.

Docket Numbers: ER07-326-000.

Applicants: California Independent System Operator Corporation.

Description: California Independent System Operator Corporation submits amendments to its Tariff to reflect Order 676 Waivers.

Filed Date: 12/15/2006.

Accession Number: 20061218-0090.

Comment Date: 5 p.m. Eastern Time on Friday, January 5, 2007.

Docket Numbers: ER07-327-000.

Applicants: Pacific Gas and Electric Company.

Description: Pacific Gas and Electric Company submits revisions to its Transmission Access Charge Balancing Account Rate to its Electric Tariff, Sixth Revised Volume No. 5.

Filed Date: 12/14/2006.

Accession Number: 20061218-0087.

Comment Date: 5 p.m. Eastern Time on Thursday, January 4, 2007.

Docket Numbers: ER07-328-000.

Applicants: Alcoa Power Generating Inc.

Description: Alcoa Power Generating Inc addresses numerous issues concerning its rate schedule currently on file.

Filed Date: 12/15/2006.

Accession Number: 20061218-0148.

Comment Date: 5 p.m. Eastern Time on Friday, January 5, 2007.

Take notice that the Commission received the following electric securities filings:

Docket Numbers: ES07-11-000.

Applicants: Wolverine Power Supply Cooperative, Inc.

Description: Wolverine Power Supply Cooperative, Inc submits an application for Authorization of the Assumption of Liabilities pursuant to Section 204(a) of the FPA.

Filed Date: 12/15/2006.

Accession Number: 20061215-5024.

Comment Date: 5 p.m. Eastern Time on Friday, January 5, 2007.

Docket Numbers: ES07-12-000.

Applicants: Consolidated Edison Company of New York.

Description: Consolidated Edison Company of New York submits an application of requesting authorization to Issue and Sale of Short-term Debt pursuant to section 204 of the FPA.

Filed Date: 12/15/2006.

Accession Number: 20061215-5103.

Comment Date: 5 p.m. Eastern Time on Friday, January 5, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov or call (866) 208-3676 (toll free). For TTY, call (202) 502-8659.

Magalie R. Salas,
Secretary.

[FR Doc. E6-22208 Filed 12-27-06; 8:45 am]

BILLING CODE 6717-01-P